SECURITIES AND EXCHANGE COMMISSION

[File No. 500-1]

In the Matter of DC Brands International Inc., Order of Suspension of Trading

January 11, 2016.

It appears to the Securities and Exchange Commission that there is a lack of current and accurate information concerning the securities of DC Brands International Inc. (“DC Brands”) because DC Brands has not filed any periodic reports since it filed a Form 10-Q for the period ended June 30, 2014. Specifically, DC Brands is over a year delinquent in its periodic reporting and it has not submitted the following required filings:

• Form 10-Q for the quarter ended September 30, 2014 (due November 15, 2014)

• Form 10-K for the fiscal year ended December 31, 2014 (due March 31, 2015)

• Form 10-Q for the quarter ended March 31, 2015 (due May 15, 2015)

• Form 10-Q for the quarter ended June 30, 2015 (due August 15, 2015)

• Form 10-Q for the quarter ended September 30, 2015 (due November 15, 2015)

The Commission is of the opinion that the public interest and the protection of investors require a suspension of trading in the securities of the above-listed company.

Therefore, it is ordered, pursuant to Section 12(k) of the Securities Exchange Act of 1934, that trading in the securities of the above-listed company is suspended for the period from 9:30 a.m. EST on January 11, 2016, through 11:59 p.m. EST on January 25, 2016.

By the Commission.
Brent J. Fields,
Secretary.

[FR Doc. 2016-00591 Filed 1-11-16; 11:15 am]

BILLING CODE 8011-01-P